NATIONAL AERONAUTICS AND SPACE ADMINISTRATION

48 CFR Parts 1823 and 1852

NASA Safety and Health (Short Form)

AGENCY: National Aeronautics and Space Administration.

ACTION: Final rule.

SUMMARY: This final rule adopts with changes the interim rule published in the Federal Register on April 5, 2001 (65 FR 18051-18053), which amended the NASA FAR Supplement to implement a Safety and Health (Short Form) clause to address safety and occupational health in all NASA contracts above the micro-purchase threshold where the existing Safety and Health clause did not apply, and amended other safety and health clauses to be consistent with the new NASA Safety and Health (Short Form) clause.

EFFECTIVE DATE: September 20, 2001.

FOR FURTHER INFORMATION CONTACT: Yolande Harden, NASA, Office of Procurement, Contract Management Division (Code HK), (202) 358-1279, e-mail: yharden@mail.hq.nasa.gov.

SUPPLEMENTARY INFORMATION:

A. Background

NASA has recognized that for it to achieve mission success, it is critically important that NASA contractors also emphasize safety and occupational health. While the existing safety and health clause applies to many high dollar value and high-risk contracts, NASA has many more contracts that it does not apply to that are critical to the agency achieving its mission. The Safety and Health (Short Form) clause was developed to address safety and occupational health in all of its contracts. Contractors must be accountable for the safety and occupational health of their employees, their services, and their products (as applicable). This will help lead to mission success for NASA and its contractors.

One comment from industry was received in response to the interim rule published in the April 5, 2001, Federal Register. This comment was a statement of support for NASA's efforts to emphasize safety in the acquisition process. This final rule adopts the interim rule with changes to Alternate I to 1852.223-73, Safety and Health Plan, to clarify the Safety and Health Plan submission requirement under Invitation for Bids (IFB) and adds a prescription at 1823.7001(c) for use of this Alternate.

B. Regulatory Flexibility Act

NASA certifies that this final rule will not have a significant economic impact on a substantial number of small business entities under the Regulatory Flexibility Act (5 U.S.C. 601 et seq.) because this rule focuses attention on safety and occupational health, and does not impose any significant new requirements, which might have an economic impact.

C. Paperwork Reduction Act

The Paperwork Reduction Act does not apply because the changes do not impose information collection requirements that require the approval of the Office of Management and Budget under 44 U.S.C. 3501, et seq.

List of Subjects in 48 CFR Parts 1823 and 1852

Government procurement.

Tom Luedtke,
Associate Administrator for Procurement.

Accordingly, 48 CFR parts 1823 and 1852 are amended as follows:

1. The authority citation for 48 CFR parts 1823 and 1852 continues to read as follows:

Authority: 42 U.S.C. 2473(c)(1)

PART 1823—ENVIRONMENT, CONSERVATION, OCCUPATIONAL SAFETY, AND DRUG-FREE WORKPLACE

2. In section 1823.7001, amend paragraph (c) by adding the following sentence at the end to read as follows:

1823.7001 NASA solicitation provisions and contract clauses.

* * * * *

(c) * * * Insert the provision with its Alternate I, in Invitations for Bid containing the clause at 1852.223-70.

* * * * *

PART 1852—SOLICITATION PROVISIONS AND CONTRACT CLAUSES

3. Revise section 1852.223-73 to read as follows:

1852.223-73 Safety and Health Plan.

As prescribed in 1823.7001(c), insert the following provision:

Safety and Health Plan

September 2001

The offeror shall submit a detailed safety and occupational health plan as part of its proposal (see NPG 8715.3, NASA Safety Manual Appendices). The plan must include a detailed discussion of the policies, procedures, and techniques that will be used to ensure the safety and occupational health of contractor employees and to ensure the safety of all working conditions throughout the performance of the contract. The plan must similarly address safety and occupational health for subcontractor employees for any proposed subcontract whose value is expected to exceed $500,000, including commercial services and services provided in support of a commercial item. Also, when applicable, the plan must address the policies, procedures, and techniques that will be used to ensure the safety and occupational health of: (1) the public, (2) astronauts and pilots, (3) the NASA workforce (including other contractor employees working on NASA contracts), and (4) high-value equipment and property. This plan, as approved by the Contracting Officer, will be included in any resulting contract.

(End of provision)

Alternate I

September 2001

As prescribed in 1823.7001(c), delete the first sentence of the basic provision and substitute the following:

The apparent low bidder, upon request by the Contracting Officer, shall submit a detailed safety and occupational health plan (see NPG 8715.3, NASA Safety Manual, Appendices). The plan shall be submitted within the time specified by the Contractor Officer. Failure to submit an acceptable plan shall make the bidder ineligible for the award of a contract.

[FR Doc. 01-23421 Filed 9-19-01; 8:45 am]

BILLING CODE 7510-01-P